Memorandum of July 13, 2016

Delegation of Authority Under Sections 614(a)(1) and 610 of the Foreign Assistance Act of 1961

Memorandum for the Secretary of State

By the authority vested in me as President by the Constitution and the laws of the United States of America, including section 301 of title 3, United States Code, I hereby delegate to you the following authorities, subject to fulfilling the requirements of sections 614(a)(3) and 652 of the Foreign Assistance Act of 1961 (FAA), and section 7009(d) of the Department of State, Foreign Operations, and Related Programs Appropriations Act, 2010 (Division F, Public Law 111-117), in order to provide assistance for Nigeria:

(1) the authority under section 614(a)(1) of the FAA to determine whether it is important to the security interests of the United States to furnish assistance using up to $19,708,000 of Fiscal Year (FY) 2010 supplemental International Narcotics Control and Law Enforcement (INCLE) funds without regard to any other provision of law within the purview of section 614(a)(1) of the FAA; and

(2) the authority under section 610 of the FAA to make the requisite determination and execute the transfer of up to $7,968,000 of these FY 2010 supplemental INCLE funds to the Economic Support Fund account.

You are authorized and directed to publish this memorandum in the Federal Register.

THE WHITE HOUSE,

Washington, July 13, 2016

[FR Doc. 2016-17640

Filed 7-22-16; 8:45 am]

Billing code 4710-10-P